DEPARTMENT OF EDUCATION

Submission for OMB Review; Comment Request

AGENCY: Department of Education.

SUMMARY: The IC Clearance Official, Regulatory Information Management Services, Office of Management invites comments on the submission for OMB review as required by the Paperwork Reduction Act of 1995.

DATES: Interested persons are invited to submit comments on or before August 13, 2007.

ADDRESSES: Written comments should be addressed to the Office of Information and Regulatory Affairs, Attention: Education Desk Officer, Office of Management and Budget, 725 17th Street, NW., Room 10222, Washington, DC 20503. Commenters are encouraged to submit responses electronically by e-mail to: oira_submission@omb.eop.gov or via fax to (202) 395-6974. Commenters should include the following subject line in their response “Comment: [insert OMB number], [insert abbreviated collection name, e.g., “Upward Bound Evaluation”]. Persons submitting comments electronically should not submit paper copies.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. OMB invites public comment.

Dated: July 10, 2007.
Angela C. Arrington,
IC Clearance Official, Regulatory Information Management Services, Office of Management.

Office of Planning, Evaluation and Policy Development

Type of Review: Revision.

Title: Longitudinal Analysis of Comprehensive School Reform Implementation and Outcomes (LACIO).

Frequency: On Occasion.

Affected Public: State, Local, or Tribal Gov't, SEAs or LEAs.

Reporting and Recordkeeping Hour Burden:

Responses: 1,210.

Burden Hours: 1,230.

Abstract: This request is for OMB approval of revised data collection associated with the Longitudinal Assessment of the Comprehensive School Reform Program Implementation and Outcomes (LACIO). Sec. 1606 of the Elementary and Secondary Education Act (ESEA), as reauthorized by the No Child Left Behind Act (Pub. L. 107 110) mandates activities to be conducted by K 12 schools across the country under “comprehensive school reform,” and Sec. 1607 mandates the National Evaluation. This request for the revision of OMB approval reflects a changed focus of the LACIO to address two concerns: (1) The extent to which the federal funds actually played the anticipated catalytic role and schools continue reform after CSR funding ended; and (2) the lessons from CSR that can be applied to school actions to successfully stimulate improved student achievement. This modification enables the Department of Education to respond to the changing policy environment and the need for information related to how high-poverty, low-achieving schools improve and sustain student outcomes. Under the modification, the contractor will conduct a study of the policies and processes implemented in schools that have turned around (failing schools that have improved their student performance dramatically), comparing these successful schools with those that are less successful, and examining the extent to which components in the Turnaround Evidence Review by Public Impact for the Center on Innovation and Improvement (CII) are apparent in successfully reforming schools. In addition, the contractor augmented the framework, adding attention to staff capacity and development, distributed leadership, external assistance, and characteristics of effective schools. The study will place less emphasis on discrete programs and more on the processes—at the district and school level—and outcomes of reform under NCLB, thereby, enabling the Department to provide other low-performing schools with information about how to improve. Furthermore, this study will gather new data from districts and schools to determine what strategies and practices are implemented in improved schools. The contractor will collect the new data through document review and site visits. The contractor will carry out the work described in this modification, culminating in a final report due October 27, 2008.

Requests for copies of the information collection submission for OMB review may be accessed from: http://edicsweb.ed.gov., by selecting the “Browse Pending Collections” link and by clicking on link number 3327. When you access the information collection, click on “Download Attachments” to view. Written requests for information should be addressed to U.S. Department of Education, 400 Maryland Avenue, SW., Potomac Center, 9th Floor, Washington, DC 20202-4700.

Requests may also be electronically mailed to: ICDocketMgr@ed.gov., or faxed to 202-245-6623. Please specify the complete title of the information collection when making your request.

Comments regarding burden and/or the collection activity requirements should be electronically mailed to: ICDocketMgr@ed.gov. Individuals who use a telecommunications device for the deaf (TDD) may call the Federal Information Relay Service (FIRS) at 1-800-877-8339.

[FR Doc. E7-13662 Filed 7-12-07; 8:45 am]

BILLING CODE 4000-01-P